DEPARTMENT OF THE TREASURY

Office of Thrift Supervision

[AC-11: OTS No. H4392]

Abington Savings Bank, Abington Mutual Holding Company, Abington Community Bancorp, Inc., and Abington Bancorp, Inc., Jenkintown, PA; Approval of Conversion Application

Notice is hereby given that on May 14, 2007, the Managing Director, Examinations and Supervision—Operations, Office of Thrift Supervision (OTS), or her designee, acting pursuant to delegated authority, approved the application of Abington Mutual Holding Company and Abington Savings Bank, Jenkintown, Pennsylvania, to convert to the stock form of organization. Copies of the application are available for inspection by appointment (phone number: 202-906-5922 or e-mail: Public.Info@OTS.Treas.gov) at the Public Reading Room, 1700 G Street, NW., Washington, DC 20552, and OTS Northeast Regional Office, Harborside Financial Center Plaza Five, Suite 1600, Jersey City, NJ 07311.

Dated: May 15, 2007.
By the Office of Thrift Supervision.
Sandra E. Evans,
Legal Information Assistant.

[FR Doc. 07-2474 Filed 5-17-07; 8:45 am]

BILLING CODE 6720-01-M